COURT SERVICES AND OFFENDER SUPERVISION AGENCY FOR THE DISTRICT OF COLUMBIA

28 CFR Part 810

RIN 3225-AA00

Community Supervision: Administrative Sanctions and GPS Monitoring as a Supervision Tool; Correction

AGENCY: Court Services and Offender Supervision Agency for the District of Columbia.

ACTION: Proposed rule; correction.

SUMMARY: In this document, the Court Services and Offender Supervision Agency for the District of Columbia (CSOSA) is correcting the authority citation in a proposed rule published May 22, 2015, regarding amendments to its current rule regarding the conditions of release requirements for offenders under CSOSA supervision.

FOR FURTHER INFORMATION CONTACT: Stephanie Carrigg, Assistant General Counsel, at (202) 220-5352 or by email at stephanie.carrigg@csosa.gov. Questions about this publication are welcome, but inquiries concerning individual cases cannot be answered over the telephone.

Correction

In proposed rule FR Doc. 2015-12204, published on May 22, 2015 (80 FR 29569), make the following correction. On page 29570, in the first column, correct both instances of the “Authority” to read as follows:

Authority: Pub. L. 105-33, 111 Stat. 712 (D.C. Code 24-133(b)(2)(B)).

Dated: June 30, 2015.
Diane Bradley,
Assistant General Counsel.

[FR Doc. 2015-16007 Filed 7-8-15; 8:45 am]

BILLING CODE 3129-04-P